NUCLEAR REGULATORY COMMISSION

[Docket No. 030-30429; License No. 42-26928-01; EA-23-039; NRC-2023-0204]

Confirmatory Order; Issuance; In the Matter of ProTechnics Division of Core Laboratories LP

AGENCY: Nuclear Regulatory Commission.

ACTION: Notice.

SUMMARY: The U.S. Nuclear Regulatory Commission (NRC) issued a Confirmatory Order to ProTechnics Division of Core Laboratories LP (ProTechnics) to document commitments made as part of a settlement agreement made between the NRC and ProTechnics following an alternative dispute resolution mediation session held on October 12, 2023. The mediation addressed six apparent violations involving ProTechnics' abandonment of well logging sources, compliance with disposal of effluents limits within the Gulf of Mexico, and compliance with NRC requirements for monitoring occupational radiation exposure. ProTechnics has committed to various measures intended to improve the effectiveness of its radiation safety program, develop better well logging source abandonment procedures, and to train its employees on occupational exposure limits and the proper use of dosimetry. The Confirmatory Order is effective upon issuance.

DATES: The Confirmatory Order was issued on November 28, 2023.

ADDRESSES: Please refer to Docket ID NRC-2023-0204 when contacting the NRC about the availability of information regarding this document. You may obtain publicly available information related to this document using any of the following methods:

• Federal Rulemaking Website: Go to https://www.regulations.gov and search for Docket ID NRC-2023-0204. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Confirmatory Order to ProTechnics is available in ADAMS under Accession No. ML23305A063.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jeremy Groom, Region IV, U.S. Nuclear Regulatory Commission, telephone: 817-200-1182, email: Jeremy.Groom@nrc.gov.

SUPPLEMENTARY INFORMATION: The text of the Order is attached.

Dated: December 4, 2023.
For the Nuclear Regulatory Commission.
John D. Monninger,
Regional Administrator, NRC Region IV.

Attached—Confirmatory Order

United States of America

Nuclear Regulatory Commission

In the Matter of: PROTECHNICS DIVISION OF CORE LABORATORIES LP, Docket No. 030-30429, License No. 42-26928-01, EA-23-039

Confirmatory Order Modifying License (Effective Upon Issuance)

I

ProTechnics Division of Core Laboratories LP (ProTechnics or the licensee) is the holder of Materials License No. 42-26928-01, issued by the U.S. Nuclear Regulatory Commission (NRC or Commission) pursuant to part 30 of title 10 of the Code of Federal Regulations (10 CFR). The license authorizes operations at licensee facilities, temporary job sites, and certain client sites in accordance with conditions specified therein. The licensee's facilities are located on the licensee's sites in Alaska, Wyoming, Montana, and West Virginia. Client sites are located in Wyoming and offshore in the Gulf of Mexico.

This Confirmatory Order (CO) is the result of an agreement reached during an Alternative Dispute Resolution (ADR) mediation session conducted on October 11, 2023.

II

On July 7, 2023, the NRC issued Inspection Report 030-30429/2022-002, Agencywide Documents Access and Management System (ADAMS) Accession No. ML23138A393, to ProTechnics which documented the identification of six apparent violations that were being considered for escalated enforcement action in accordance with the NRC Enforcement Policy. The violations involved the failure to: (1) notify and seek NRC approval for the performance of an abandonment of a well logging source as required by 10 CFR 39.77(c)(1); (2) request an extension for a well logging source authorized for temporary storage within a well as required by License Condition 10.D of NRC License 42-26928-01, Amendment No. 49 and 50 (which was changed to License Condition 10.H of NRC License 42-26928-01, Amendment No. 50 (corrected copy) to 54); (3) perform a timely abandonment for a well logging source authorized for temporary storage within a well as required by License Condition 10.H of NRC License 42-26928-01, Amendment 54; (4) maintain survey records or calculations demonstrating compliance with 10 CFR part 20 limits on the release of effluents within the Gulf of Mexico as required by 10 CFR 20.1302; (5) develop, document, and implement a radiation protection program sufficient to ensure compliance with 10 CFR part 20, specifically with regard to outlier exposures recorded on two dosimeters as required by 10 CFR 20.1101(a); and (6) monitor a group of occupationally-exposed workers as a result of the loss of their dosimeters as required by 10 CFR 20.1502(a).

By letter dated July 7, 2023, the NRC notified ProTechnics of the results of the inspection and provided ProTechnics with an opportunity to: (1) attend a predecisional enforcement conference or (2) participate in an ADR mediation session in an effort to resolve these concerns.

In response to the NRC's offer, ProTechnics requested the use of the NRC ADR process to resolve differences it had with the NRC. On October 11, 2023, the NRC and ProTechnics met in an ADR session mediated by a professional mediator, arranged through Cornell University's Institute on Conflict Resolution. The ADR process is one in which a neutral mediator, with no decision-making authority, assists the parties in reaching an agreement to resolve any differences regarding the dispute. This Confirmatory Order is issued pursuant to the agreement reached during the October 11, 2023, ADR process.

III

During the ADR mediation session, ProTechnics and the NRC reached a preliminary settlement agreement.

The NRC recognizes the corrective actions that ProTechnics has already implemented associated with the apparent violations, including (1) proactively engaging independent certified health physicists to perform a comprehensive audit of its radiation safety program, (2) making extensive procedural and training enhancements, and (3) hosting industry forums with ProTechnics' clients to discuss NRC regulatory requirements.

Additional commitments made in the preliminary settlement agreement, as signed by both parties, consist of the following:

Audit

A. ProTechnics will perform a comprehensive audit of its radiation safety program. The audit shall be performed by an independent entity that has familiarity with 10 CFR part 39. This will include the following actions:

1. Within 30 days of the issuance date of the Confirmatory Order, ProTechnics will submit its audit plan to the NRC for review and approval. Within 30 days of receiving ProTechnics' audit plan, the NRC will either communicate to ProTechnics its approval of the audit plan or reasons for its disapproval. If the NRC does not approve the audit plan, ProTechnics will revise and re-submit its audit plan within 30 days of the NRC's response.

2. Within 6 months of the NRC approval of its audit plan, ProTechnics will submit a copy of the audit report and ProTechnics' written response to the audit report to the NRC. ProTechnics' written response will either address how it will implement the recommendations and corrective actions of the audit report, including a proposed timeline; or provide an explanation and justification for why the recommendation(s) and corrective action(s) will not be implemented.

Training

B. ProTechnics will develop a training program designed to address knowledge deficiencies that contributed to the apparent violations in NRC Inspection Report 030-30429/2022-002.

1. Specifically, the training will address:

a. The proper use of dosimetry to comply with the NRC's requirements in 10 CFR part 20 to include individual staff and supervisory actions required upon discovery of lost or missing dosimetry.

b. Occupational exposure limits under 10 CFR part 20 and any additional limits imposed by the licensee.

c. Sealed source management and NRC abandonment process/requirements to include manager and supervisory actions required upon discovery of a well logging source that is lodged in a well or irretrievable.

2. Within 6 months of the issuance date of the Confirmatory Order, ProTechnics will provide this training to all employee supervisors and managers involved in NRC licensed activities. ProTechnics will continue to provide this training at least once every calendar year until December 31, 2026. ProTechnics will maintain a record of the individuals receiving the training, a summary of the feedback on the training, the instructor providing the training (if applicable), and the date of the training.

Causal Evaluation

C. Within 2 months of the issuance date of the Confirmatory Order, ProTechnics will complete a causal evaluation for each apparent violation documented in NRC Inspection Report 030-30429/2022-002. The causal evaluation will include: the reason for the apparent violation; the corrective steps that have been taken and the results achieved; and the corrective actions that will be taken, with time frame for their completion.

D. Corrective actions identified as a result of the causal evaluation required by Condition C will be implemented within 18 months of completion of the evaluation.

Procedures

E. Within 6 months of the issuance date of the Confirmatory Order, ProTechnics will develop abandonment procedure(s) for well logging sources that become lodged in wells or are irretrievable. The abandonment procedures must comply with 10 CFR part 39 and incorporate the recently updated NRC license commitments associated with the licensed material described under License Conditions 10.F through 10.I and 25 in License No. 42-26928-01, Amendment No. 56, dated August 17, 2023.

1. Within 30 days of completion of Condition E, ProTechnics will submit the procedure(s) developed under Condition E to the NRC for incorporation into the ProTechnics license as a tie-down condition.

2. The NRC will review the procedure(s) submitted under Condition E.1 and if the NRC staff determines these procedures are acceptable, the NRC will incorporate these procedures into the ProTechnics license as a tie-down condition.

3. If the procedure(s) submitted under Condition E.1 are found unacceptable by the NRC staff, the NRC staff will provide comments to ProTechnics for their consideration. Within 30 days of receiving these comments, ProTechnics will re-submit the procedure(s) to the NRC for incorporation into the ProTechnics license as a tie-down condition. Incorporation of abandonment procedure(s) for well logging sources that become lodged in wells or are irretrievable into the ProTechnics license is required to fulfill this Order condition.

F. Within 6 months of the issuance date of the Confirmatory Order, ProTechnics will develop a procedure to address actions and dose estimate methodologies needed to address situations including: (1) lost dosimeters or missing dosimetry results; (2) dosimeter results that exceed regulatory limits or licensee action levels or limits; (3) methodology to assess the validity/accuracy of unexpected dosimetry results; and (4) methodology to evaluate and document dose reconstruction.

1. Within 30 days of completion of Condition F, ProTechnics will submit the procedure developed under Condition F to the NRC for review and approval.

Effectiveness Review

G. Between July 1 and December 31, 2025, ProTechnics will perform an effectiveness review of the corrective actions implemented as a result of this Confirmatory Order. The effectiveness review will include: the lessons learned from feedback from the training required by Condition B of this order, if any is received; and the results of the radiation safety program audit required by Condition A. ProTechnics will modify its corrective actions, as needed and consistent with this Confirmatory Order, based on the results of the effectiveness review. By March 31, 2026, ProTechnics will send a copy of the effectiveness review and provide, as applicable, a copy of any additional corrective actions and modifications made to previously developed corrective actions as a result of the effectiveness review to the NRC.

Administrative Items

H. By January 31 of each calendar year 2024 through 2027, ProTechnics will send the NRC a summary of the actions implemented the previous calendar year as a result of the Confirmatory Order.

I. Until December 31, 2028, ProTechnics will retain a copy of all documentation and records necessary to demonstrate compliance with the conditions of the Confirmatory Order.

J. Documents that are required to be sent to the NRC as a result of the Confirmatory Order conditions will be sent to the Director, Division of Radiological Safety and Security, U.S. Nuclear Regulatory Commission, Region IV, by email to R4Enforcement@nrc.gov.

Based on the completed actions described above, and the commitments described in Section V below, the NRC agrees not to issue a notice of violation and not impose a civil penalty for the apparent violations discussed in NRC Inspection Report 030-30429/2022-002 to ProTechnics dated July 7, 2023.

On November 21, 2023, ProTechnics consented to issuing this Confirmatory Order with the commitments, as described in Section V below. ProTechnics further agreed that this Confirmatory Order is to be effective upon issuance, the agreement memorialized in this Confirmatory Order settles the matter between the parties, and that it has waived its right to a hearing.

IV

I find that the corrective actions that ProTechnics has already implemented, as described in Section III above, combined with the commitments as set forth in Section V below are acceptable and necessary, and I conclude that with these commitments the public health and safety are reasonably assured. In view of the foregoing, I have determined that public health and safety require that ProTechnics' commitments be confirmed by this Confirmatory Order. Based on the above and ProTechnics' consent, this Confirmatory Order is effective upon issuance.

V

Accordingly, pursuant to Sections 81, 161b, 161i, 161o, 182, and 186 of the Atomic Energy Act of 1954, as amended, and the Commission's regulations in 10 CFR 2.202 and 10 CFR part 30, it is hereby ordered, effective upon issuance, that License No. 42-26928-01 is modified as follows:

Audit

A. ProTechnics will complete a comprehensive audit of its radiation safety program. The audit shall be performed by an independent entity that has familiarity with 10 CFR part 39. This will include the following actions:

1. No later than 30 days after the issuance date of the Confirmatory Order, ProTechnics will submit its audit plan to the NRC for review and approval. Within 30 days of receiving ProTechnics' audit plan, the NRC will either communicate to ProTechnics its approval of the audit plan or reasons for its disapproval. If the NRC does not approve the audit plan, ProTechnics will revise and re-submit its audit plan within 30 days of the NRC's response.

2. Within 6 months of the NRC approval of its audit plan, ProTechnics will submit a copy of the audit report and ProTechnics' written response to the audit report to the NRC. ProTechnics' written response will either address how it will implement the recommendations and corrective actions of the audit report, including a proposed timeline; or provide an explanation and justification for why the recommendation(s) and corrective action(s) will not be implemented.

Training

B. ProTechnics will develop a training program designed to address knowledge deficiencies that contributed to the apparent violations in NRC Inspection Report 030-30429/2022-002.

1. Specifically, the training will address:

a. The proper use of dosimetry to comply with the NRC's requirements in 10 CFR part 20 to include individual staff and supervisory actions required upon discovery of lost or missing dosimetry.

b. Occupational exposure limits under 10 CFR part 20 and any additional limits imposed by the licensee.

c. Sealed source management and NRC abandonment process/requirements to include manager and supervisory actions required upon discovery of a well logging source that is lodged in a well or irretrievable.

2. Within 6 months of the issuance date of the Confirmatory Order, ProTechnics will provide this training to all employee supervisors and managers involved in NRC licensed activities. ProTechnics will continue to provide this training at least once every calendar year until December 31, 2026. ProTechnics will maintain a record of the individuals receiving the training, a summary of the feedback on the training, the instructor providing the training (if applicable), and the date of the training.

Causal Evaluation

C. Within 2 months of the issuance date of the Confirmatory Order, ProTechnics will complete a causal evaluation for each apparent violation documented in NRC Inspection Report 030-30429/2022-002. The causal evaluation will include: the reason for the apparent violation; the corrective steps that have been taken and the results achieved; and the corrective actions that will be taken, with time frame for their completion.

D. Corrective actions identified as a result of the causal evaluation required by Condition C will be implemented within 18 months of completion of the evaluation.

Procedures

E. Within 6 months of the issuance date of the Confirmatory Order, ProTechnics will develop abandonment procedure(s) for well logging sources that become lodged in wells or are irretrievable. The abandonment procedures must comply with 10 CFR part 39 and incorporate the recently updated NRC license commitments associated with the licensed material described under License Conditions 10.F through 10.I and 25 in License No. 42-26928-01, Amendment No. 56, dated August 17, 2023.

1. Within 30 days of completion of Condition E, ProTechnics will submit the procedure(s) developed under Condition E to the NRC for incorporation into the ProTechnics license as a tie-down condition.

2. The NRC will review the procedure(s) submitted under Condition E.1 and if the NRC staff determines these procedures are acceptable, the NRC will incorporate these procedures into the ProTechnics license as a tie-down condition.

3. If the procedure(s) submitted under Condition E.1 are found unacceptable by the NRC staff, the NRC staff will provide comments to ProTechnics for their consideration. Within 30 days of receiving these comments, ProTechnics will re-submit the procedure(s) to the NRC for incorporation into the ProTechnics license as a tie-down condition. Incorporation of abandonment procedure(s) for well logging sources that become lodged in wells or are irretrievable into the ProTechnics license is required to fulfill this Order condition.

F. Within 6 months of the issuance date of the Confirmatory Order, ProTechnics will develop a procedure to address actions and dose estimate methodologies needed to address: (1) lost dosimeters or missing dosimetry results; (2) dosimeter results that exceed regulatory limits or licensee action levels or limits; (3) methodology to assess the validity/accuracy of unexpected dosimetry results; and (4) methodology to evaluate and document dose reconstruction.

1. Within 30 days of completion of Condition F, ProTechnics will submit the procedure developed under Condition F to the NRC for review and approval.

2. If the procedure submitted under Condition F.1 is found unacceptable by the NRC staff, the NRC staff will provide comments to ProTechnics for their consideration. Within 30 days of receiving these comments, ProTechnics will re-submit the procedure to the NRC.

Effectiveness Review

G. Between July 1 and December 31, 2025, ProTechnics will perform an effectiveness review of the corrective actions implemented as a result of this Confirmatory Order. The effectiveness review will include: the lessons learned from feedback from the training required by Condition B of this order, if any is received; and the results of the radiation safety program audit required by Condition A. ProTechnics will modify its corrective actions, as needed and consistent with this Confirmatory Order, based on the results of the effectiveness review. By March 31, 2026, ProTechnics will send a copy of the effectiveness review and provide, as applicable, a copy of any additional corrective actions and modifications made to previously developed corrective actions as a result of the effectiveness review to the NRC.

Administrative Items

H. By January 31 of each calendar year 2024 through 2027, ProTechnics will send the NRC a summary of the actions implemented the previous calendar year as a result of the Confirmatory Order.

I. Until December 31, 2028, ProTechnics will retain a copy of all documentation and records necessary to demonstrate compliance with the conditions of the Confirmatory Order.

J. Documents that are required to be sent to the NRC as a result of the Confirmatory Order conditions will be sent to the Director, Division of Radiological Safety and Security, U.S. Nuclear Regulatory Commission, Region IV, by email to R4Enforcement@nrc.gov.

In the event of transfer of ProTechnics' license to another entity, the terms and conditions set forth hereunder shall continue to apply to the new entity and accordingly survive any transfer of ownership or license. This Confirmatory Order is considered escalated enforcement. The Regional Administrator, Region IV, may, in writing, relax, rescind, or withdraw any of the above conditions upon demonstration by ProTechnics or its successors of good cause.

VI

In accordance with 10 CFR 2.202 and 10 CFR 2.309, any person adversely affected by this Confirmatory Order, other than ProTechnics, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person (other than ProTechnics) requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission.
Dated this 28th day of November 2023.
/RA/
John D. Monninger,
Regional Administrator, NRC Region IV.

[FR Doc. 2023-26951 Filed 12-7-23; 8:45 am]

BILLING CODE 7590-01-P